DEPARTMENT OF TRANSPORTATION

Office of the Secretary

[Docket ID Number: DOT-OST-2010-0054]

Notice of Submission of Proposed Information Collection to OMB; Agency Request for Renewal of Previously Approved Collections: Nondiscrimination on the Basis of Disability in Air Travel: Reporting Requirements for Disability-Related Complaints

AGENCY: Office of the Secretary (OST), Department of Transportation (Department or DOT).

ACTION: Notice and request for comments.

SUMMARY: In accordance with the Paperwork Reduction Act of 1995 (44 U.S.C. Chapter 35, as amended), this notice announces DOT's intention to renew Office of Management and Budget (OMB) Control Number 2105-0551, “Reporting Requirements for Disability-Related Complaints.” The information collection is related to a requirement in the Code of Federal Regulations (CFR) for carriers to report annually to the Department the number of disability-related complaints they receive.

DATES: Interested persons are invited to submit comments regarding this proposal. Written comments should be submitted by January 27, 2026.

ADDRESSES: You may submit comments identified by Docket No. DOT-OST-2010-0054 through one of the following methods:

• Federal eRulemaking Portal: http://www.regulations.gov. Follow the online instructions for submitting comments.

• Mail: Docket Management Facility, U.S. Department of Transportation, 1200 New Jersey Avenue SE, West Building, Room W12-140, Washington, DC 20590.

• Hand Delivery: West Building Ground Floor, Room W12-140, 1200 New Jersey Avenue SE, Washington, DC, between 9 a.m. and 5 p.m., Monday through Friday, except Federal holidays. The telephone number is 202-366-9329.

Instructions: Enter the agency name and docket number at the beginning of your comment. All comments received will be posted without change to https://www.regulations.gov, including any personal information provided.

Privacy Act: Anyone may search the electronic form of all comments received in any of DOT's dockets by the name and individual submitting the comment (or signing the comment, if submitted on behalf of an association, business, labor union, etc.). You may review the System of Records Notice covering the Federal Docket Management System at 73 FR 3116-17.

FOR FURTHER INFORMATION CONTACT: John Wood, Office of Aviation Consumer Protection, U.S. Department of Transportation, 1200 New Jersey Avenue SE, Washington, DC 20590, Telephone Number (202) 366-9342 (voice), C70notice@dot.gov (email).

SUPPLEMENTARY INFORMATION: OMB Control Number: 2105-0551.

Title: Reporting Requirements for Disability-Related Complaints.

Type of Request: Renewal of information collections.

Background: The Department's regulation 14 CFR 382.157 requires U.S. and foreign air carriers operating to, from, and within the United States that conduct passenger-carrying service with at least one aircraft with a designed seating capacity of more than 60 passengers (large aircraft) to record disability-related complaints that they receive. For the purposes of the requirement, a disability-related complaint means a specific written expression of dissatisfaction received from, or submitted on behalf, of an individual with a disability concerning a difficulty associated with the person's disability, which the person experienced when using or attempting to use an air carrier's or foreign carrier's services. The carriers must also categorize these complaints according to the type of disability and nature of complaint, prepare a summary report annually of the complaints received during the preceding calendar year, submit the report to the Department's Office of Aviation Consumer Protection, and retain copies of correspondence and records of action taken on the reported complaints for three years. Carriers are required to submit their annual report to the Department by the last Monday in January of each year for complaints received during the prior calendar year.

Carriers report annually the information described in Appendix A to 14 CFR 382 “Report of Disability-Related Complaint Data” (Reporting Form). DOT regulations provide that carriers must submit their reports using the World Wide Web unless approved by DOT to use another method. See 14 CFR 382.157. The Department intends to use its newly modernized Aviation Complaint, Enforcement, and Reporting System (ACERS), a web-based portal, to accept annual disability reports from carriers beginning with annual reports for calendar year 2025 operations. These reports will be due January 26, 2026.

To file a report using ACERS, an authorized air carrier representative will use the organization's ACERS account information to log into ACERS and access the web-based version of the Reporting Form to enter the information, including contact information, complaint data, and certification information. Then, the representative will click “Submit” which will electronically transmit the report to the Department.

Among other things, ACERS was developed to offer air carriers and other industry users improved disability reporting efficiencies and capabilities. More specifically, ACERS will enable a carrier receiving “0” disability-related complaints during a particular reporting year to, with one click, auto-populate each field of the report with a “0” instead of selecting each field separately and then entering a “0.” In addition, ACERS allows carrier representatives to save their progress on partially completed reports, so that they may return to edit and complete their report without losing information entered previously.

Reporting carriers must be registered with the Department to receive a log-in for ACERS prior to filing a report using the system. Information collection activities, including burden estimates, for air travel industry representatives and other users to create and manage ACERS accounts and to use ACERS functionalities to submit reports, in general, are covered under a separate OMB Control Number (2105-0568) which is valid through August 31, 2027. OMB Control Number 2105-0551, which is addressed by this notice, covers burdens associated with preparing and submitting the annual disability report to the Department. OMB Control Number 2105-0551 is valid through January 31, 2026.

The Department relies on the disability-related complaint information collections primarily to comply with 49 U.S.C. 41705(c)(3), which requires the Secretary of Transportation to “regularly review all complaints received by carriers alleging discrimination on the basis of disability” and “report annually to Congress on the results of such review.” The Department may also rely on this information to inform policy and in enforcement matters. The Department publishes the data collected from airlines each year, and the corresponding reports to Congress, on its website at: https://www.transportation.gov/airconsumer/annual-report-disability-related-air-travel-complaints.

The Paperwork Reduction Act of 1995 (PRA) and its implementing regulations, 5 CFR 1320, et seq., require Federal agencies to issue two notices seeking public comment on information collection activities before OMB may approve paperwork packages. A Federal agency generally cannot conduct or sponsor a collection of information, and the public is generally not required to respond to an information collection, unless it is approved by OMB under the PRA and displays a currently valid OMB Control Number. In addition, notwithstanding any other provisions of law, no person shall generally be subject to monetary penalty for failing to comply with a collection of information if the collection of information does not display a valid OMB Control Number. See 5 CFR 1320.5(a) and 1320.6.

For each information collection, the title, a description of the respondents, and an estimate of the annual recordkeeping and periodic reporting burden are set forth below.

(1) Requirement to record and categorize complaints received.

Respondents: U.S. air carriers and foreign air carriers operating to and from the United States that conduct passenger-carrying service with at least one large aircraft.

Number of Respondents: 170 (the total number of respondents that reported for Calendar Year (CY) 2023).¹

¹ As of the date of this notice, disability-related complaints data for CY 2023 are the most recent data available to the Department.

Frequency: 49,082 complaints per year total for all respondents, which represents the number of complaints received by all respondents combined during CY 2023 (0-9,717 complaints is the range of the lowest number of complaints and the highest number of complaints received by any respondent during CY 2023).

Estimated Burden on Respondents: .25 hours on each respondent to categorize and record each complaint.

Estimated Total Annual Burden: 12,270.5 hours for all respondents (time to record and categorize each complaint (.25 hours) multiplied by the total number of complaints received during CY 2023 (49,082)). On average, the estimated annual burden per respondent is a range of 0-2,429.25 hours per carrier.

(2) Requirement to prepare and submit annual report.

Carriers will generally submit their reports electronically through ACERS or another means approved by the Department.

Respondents: U.S. air carriers and foreign air carriers operating to and from the United States that conduct passenger-carrying service with at least one large aircraft.

Number of Respondents: 170 (the total number of respondents that reported for CY 2023).

Frequency: 1 report to DOT per year for each respondent.

Estimated Burden on Respondents: 0.5 hours a year for each respondent to report to DOT.

Estimated Total Annual Burden: 85 hours for all respondents (time to report (0.5 hours) multiplied by 170, the total number of respondents).

(3) Requirement to retain correspondences and records of action taken on all disability-related complaints.

Respondents: U.S. air carriers and foreign air carriers operating to and from the United States that conduct passenger-carrying service with at least one large aircraft.

Number of Respondents: 170 (the total number of respondents that reported for CY2023).

Frequency: 49,082 complaints per year total for all respondents, which represents the number of complaints received by all respondents combined during CY 2023 (0-9,717 complaints is the range of the lowest number of complaints and the highest number of complaints received by any respondent during CY 2023).

Estimated Burden on Respondents: 0.083 (repeating) hours per complaint (the time it takes for a respondent to retain or save the correspondences and records of action taken on a single disability-related complaint).

Estimated Total Annual Burden: 4,090.17 hours (time it takes for a respondent to retain or save the correspondences and records of action taken on a single disability-related complaints (0.083 (repeating) hours) multiplied by the total number of complaints received during CY 2023 (49,082)).

Comments Invited

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents. All comments will also become a matter of public record on the docket.

Authority: The Paperwork Reduction Act of 1995; 44 U.S.C. chapter 35, as amended; and 49 CFR 1.26, 1.27, 1.48; DOT Order 1351.29.

Issued in Washington, DC.
Livaughn Chapman, Jr.,
Deputy Assistant General Counsel.

[FR Doc. 2025-21364 Filed 11-26-25; 8:45 am]

BILLING CODE 4910-9X-P